DEPARTMENT OF DEFENSE

Department of the Army, Corps of Engineers

Grant of Partially Exclusive License

AGENCY: U.S. Army Corps of Engineers, DoD.

ACTION: Notice; correction.

SUMMARY: Reference the previous Federal Register notice published on Thursday, December 7, 2000 (Vol 65, No. 236), page 76613, the notice inadvertently announced information under the Supplementary Information paragraph.

On page 76613, column 2, line 44, the information should indicate “aqueous sludge dewatering” vice “concrete armor unit”.

FOR FURTHER INFORMATION CONTACT: Ms. Sharon Borland, ATTN: CEERD-RV—I; (603) 646-4735, FAX (603) 646-4448; Internet Sharon.L.Borland@erdc.usace.army.mil; U.S. Army Corps of Engineers Research and Development Center, Cold Regions Research and Engineering Laboratory, 72 Lyme Road, Hanover, NH 03755-1290.

SUPPLEMENTARY INFORMATION: None.

Gregory D. Showalter,
Army Federal Register Liaison Officer.

[FR Doc. 00-32849 Filed 12-22-00; 8:45 am]

BILLING CODE 3710-92-P